DEPARTMENT OF THE INTERIOR

National Park Service

[NPS-WASO-NAGPRA-NPS0038962; PPWOCRADN0-PCU00RP14.R50000]

Notice of Intended Repatriation: Oakland Museum of California, Oakland, CA

AGENCY: National Park Service, Interior.

ACTION: Notice.

SUMMARY: In accordance with the Native American Graves Protection and Repatriation Act (NAGPRA), the Oakland Museum of California intends to repatriate certain cultural items that meet the definition of sacred objects and objects of cultural patrimony and that have a cultural affiliation with the Indian Tribes or Native Hawaiian organizations in this notice.

DATES: Repatriation of the cultural items in this notice may occur on or after November 29, 2024.

ADDRESSES: Anna Bunting, NAGPRA Coordinator, Oakland Museum of California, 1000 Oak Street, Oakland, CA 94607, telephone (510) 318-8493, email nagpra@museumca.org.

SUPPLEMENTARY INFORMATION: This notice is published as part of the National Park Service's administrative responsibilities under NAGPRA. The determinations in this notice are the sole responsibility of the Oakland Museum of California, and additional information on the determinations in this notice, including the results of consultation, can be found in the summary or related records. The National Park Service is not responsible for the determinations in this notice.

Abstract of Information Available

A total of 332 cultural items have been requested for repatriation. The 332 sacred objects/objects of cultural patrimony are listed below.

The majority of the items requested for repatriation were acquired by the Oakland Public Museum. The Oakland Public Museum (OPM) and its collections were merged into the Oakland Museum of California (OMCA) in 1969. Unless otherwise noted below, there are no known dates or circumstances related to when any of the items on this claim were originally removed from their source communities. Unless otherwise noted below, all items included on the claim were described by OPM/OMCA as “Klamath River Indian” at the time of acquisition.

One hundred and twenty-four items (H16.10A-H16.249) representing two smoking pipes, three stirring paddles, 10 spoons, three dishes, one model boat, one lot of net gauges, two nets, nine lots of lithics (i.e., spear, arrow, and drill points, knife), one deer snare, six arrows, one quiver, one lot of woodpecker scalps, one lot of iris fiber, 20 regalia items (necklace, hair ornament, headdress, mantle, dance skirts), one deerskin, one dance wand, and 61 baskets (basket bowls, basket hats, basket trays, basket cradle, tobacco basket, basket plaque, burden basket) were purchased by the Oakland Public Museum on April 6, 1909 from John Dagget. The three dishes were later described as “lower Klamath.” Larry Dawson (Senior Museum Anthropologist at UC Berkeley) attributed the four basket plaques as Yurok. Ron Johnson (Clarke Museum) attributed one basket hat as Karuk. The Pulikla Tribe of Yurok People (formerly Resighini Rancheria) attributes the basket hat as Yurok. The Yurok Tribe attributed smoking pipes, dishes, dance skirts, and headbands as Yurok.

One storage basket (H16.576) was purchased by the Oakland Public Museum on April 6, 1909.

Twenty-seven items (H16.984-H16.1046) representing one fox skin, 20 regalia items (head roll, headdress, plume, headband, skirts, necklace), two spoons, one eel skinner, and three basket bowls, were purchased from Paul A. Brizard whose family owned and operated A. Brizard, Inc. Department Store in Arcata, California by the Oakland Public Museum, January 22, 1910. Researchers Lynn Risling and Julian Lang attributed one dance skirt as Karuk. Information provided by the Pulikla Tribe of Yurok People (formerly Resighini Rancheria) attributes the dance skirt as Yurok.

Five items (H16.1903-1909) representing three basket bowls and two basket hats were gifted to the Oakland Public Museum on January 28, 1913 by Mrs. William B. Pringle. Museum records show Mrs. T.R. Hutchinson as the collector.

One baby carrier (H16.3039) was gifted to the Oakland Public Museum on October 31, 1919 by Amelia Sellander.

One dance apron (H16.3050) was gifted to the Oakland Public Museum, June 10, 1920 by Mrs. R.L. Rowley.

Thirteen items (H16.3251-H16.3265) representing 11 basket hats and two trinket baskets were gifted to the Oakland Public Museum, October 19, 1922 by Sarah W. Deming.

One basket hat (H16.3418) was gifted to the Oakland Public Museum, October 26, 1922 by Mrs. F.P. Cutting. Past museum records attributed the item to Modoc Indians or Hupa. Both the Yurok Tribe and the Pulikla Tribe of Yurok People (formerly Resighini Rancheria) attributed the basket hat as Yurok.

One basket hat (H16.3418) was gifted to the Oakland Public Museum, June 18, 1925, by Mrs. C.H. King. The basket hat was described as Lower Klamath River and Yurok.

Seven baskets (H16.3529-H16.3551 and H16.4355-H16.4365) were gifted to the Oakland Public Museum, July 17, 1927 by Mrs. Henry Weatherbee.

One smoking pipe (H16.3683) was gifted to the Oakland Public Museum, September 7, 1927 by Mrs. Philip E. Bowles.

One model basket cradle (H16.3720) was gifted to the Oakland Public Museum, December 27, 1927 by Mrs. W.P. Winchester.

Eleven items (H16.3764-H16.3784) representing 10 baskets and one bow, were gifted to the Oakland Public Museum, 12/13/1928 by Dr. Hayward G. Thomas. Larry Dawson (Senior Museum Anthropologist at UC Berkeley) attributed two basket trays as Yurok. Both the Yurok Tribe and the Pulikla Tribe of Yurok People (formerly Resighini Rancheria) attributed the bow as Yurok.

Three items (H16.3945, H16.4061, H16.4073) representing one basket bowl and two necklaces were purchased by the Oakland Public Museum, May 14, 1932 from Mrs. Viola Roseberry. The two necklaces were described as “Northwest California Indian.” The Pulikla Tribe of Yurok People (formerly Resighini Rancheria) has attributed the necklaces as Yurok.

Two items (H16.4125 and H16.4516) representing one necklace and one basket hat were gifted to the Oakland Public Museum, May 20, 1942 by Sue Shoemaker. Ron Johnson (Clarke Museum) attributed the basket hat as Yurok.

One basket hat (H16.4164) was gifted to the Oakland Museum, July 2, 1933 by Lily Cole. Ron Johnson (Clarke Museum) attributed the hat as Karuk or Yurok. The Pulikla Tribe of Yurok People (formerly Resighini Rancheria) attributes the basket hat as Yurok.

Eight baskets (H16.4203-H16.4216) were gifted to the Oakland Public Museum, October 5, 1936 by Mona Crellin.

Three baskets (H16.4243-H16.4247) were gifted to the Oakland Public Museum, April 5, 1938 by Mrs. Nettie Caveney.

One model basket cradle (H16.4299) was gifted to the Oakland Public Museum, April 26, 1943 by an anonymous donor.

Six baskets (H16.4333-H16.4340) were gifted to the Oakland Public Museum, November 19, 1938 by Mrs. L.G. Wolfe.

One fish drying tray (H16.4452) was loaned to the Oakland Public Museum in 1923 and gifted April 30, 1947 by Lillie S.B. Swain.

One basket hat (H16.4498) was gifted to the Oakland Public Museum, March 10, 1941 by Mrs. Charles H. Jurgens.

Three baskets (H16.4686-H16.4694) were gifted to the Oakland Public Museum, May 2, 1956 by Herbert A. Bruntsch.

Nineteen baskets (H16.4741-H16.4824) including basket hats, basket cradles and basket bowls were gifted to Oakland Public Museum, November 11, 1961 by Florence A. Chown. Museum files show the collector as Alfred Henry Mason Seal. Seal traveled on business trips up and down Northern California and Oregon in the late 1800s and early 1900s and he acquired the baskets during these travels. Ron Johnson (Clarke Museum) attributes one basket as Yurok.

One basket (H16.4870) was gifted to the Oakland Public Museum as part of the bequest of Laetitia Meyer, October 1961.

One basket (H4099.3) was gifted to the Oakland Public Museum, February 8, 1963 by Mrs. Haughton Sawyer.

Three miniature basket cradles (H4153.10A, B, F) were gifted to the Oakland Public Museum, December 2, 1959 by Dorothy Haberman. Notes in the donor files state that items were collected circa 1897-1899. The objects came from the collections of F.W. Carlyon and his sister, Anna E. Vaughan.

Two baskets (H4364.93 and H4364.113) were originally received by the Oakland Public Museum in 1920 as a loan from Mrs. E. Shanklin. The loan was converted to a gift in 1934.

Three baskets (H4422.5-.7) were gifted to the Oakland Public Museum, July 1966 by Bernice Baxter.

Three baskets (H4575.6A-B, H4575.7) were gifted to the Oakland Public Museum, April 24, 1967 by Mrs. Julius E. Lisbon.

One basket (H68.52.4) was gifted to the Oakland Public Museum, March 21, 1968 by Mr. and Mrs. Chester Zinn.

Four baskets (H68.57.3-.5, .7) were gifted to the Oakland Public Museum, March 20, 1968 by Mr. and Mrs. W.R. McGary. Note in the donor file says “the pieces were gathered by Micah Chrisman, San Francisco, California.”

One basket (H68.154.21G) was gifted to the Oakland Public Museum, August 19, 1968 by Mrs. George Werkley.

One basket hat (H68.192.4) was gifted to the Oakland Public Museum, October 25, 1968 by Jessie Calder.

Five baskets (H69.279.1A, .6, .32, .33, .56) were gifted to the Oakland Museum, August 11, 1969 by Mrs. W.J. Gardner.

Two baskets (H79.9.1 and .2) were gifted to the Oakland Museum, January 28, 1970 by Eleanor Jahn. Notes in the donor file say the items were “purchased at auction by [the] donor's father.” Larry Dawson (Senior Museum Anthropologist at UC Berkeley) described the basket bowl as “Karuk type.” The Resighini Rancheria of Yurok People attributes it as Yurok.

Thirty-five items (H74.639.2057-.2983 and H90.0.215, .218, .241, .243, .244) representing 28 baskets (including basket hats, baskets, cooking basket, burden baskets, hopper basket, mush dipper); four necklaces, one apron, one quiver, one deer dew claw, have no known acquisition information. These catalog numbers were assigned in 1974 and 1990 for use with objects of unknown origin encountered during inventories of the collections. A few items have some information attached to them: H74.639.2086, basket hat: piece of tape stuck to basket reads: “Hat—N. Calif., Mrs. Cain's (?) donation, Oakland, Park Dept.” H74.639.2230, basket: “Purchased from Rev. Leo Brown Plateau/Lower Klamath River”. H74.639.2231, basket: “From Mrs. Grant Hunt, 1121 Mandana Blvd. Oakland, CA.” H74.639.2982-.2983, basket hat: “Possible connection to Alice Eakin Collection.” Basket (H74.639.2057) is described as Yurok. Necklace (H74.639.2211) is described as Northwest CA. Indian. The Resighini Rancheria attributes this as Yurok. Researchers Lynn Risling and Julian Lang attribute apron (H74.639.2218) as Karuk. The Resighini Rancheria attributes the apron as Yurok.

Eight baskets (H74.703.18, .32, .40, .145, .149, .151, .153, .169) were gifted to the Oakland Museum, February 26, 1975 by the Pardee Sisters. Notes in the donor file state “objects probably collected between late 1890s and 1920s by their parents George and Helen Pardee who visited Klamath lumber mills between 1903-1907.

Five baskets (H79.75.5, .12, .20., .23, .28) including a basket water bottle, basket hats and basket bowls, were gifted to the Snow Museum in August, 1939, by Clark A. Bowen. Notes in the donor file say the items were “collected between 1900-1920. Collected by Frank A. Bowen during the building of wireless stations from Nome to San Diego and while traveling.” The basket water bottle, and two basket bowls are described in museum records as “Lower Klamath River, Yurok.” Basket hat (H79.75.12) is described in museum records as “Hupa.” The Resighini Rancheria attributes this basket hat as Yurok.

One meal sifter basket (H80.85.8) was gifted to the Oakland Museum, August 15, 1980 by Rhona Williams. Museum records describe this basket as Yurok.

Four baskets (H83.157.1-.5) were gifted to the Oakland Museum, December 22, 1983 by Oraville Jane Tuttle.

One basket hat (H84.64.3) was gifted to the Oakland Museum, June 18, 1984 by Mrs. Raymond Crichton.

One basket (H98.8.56) received by the Oakland Museum, March 26, 1998 as part of the bequest from the will of Lois Chambers Stone.

One basket hat (2002.10.8) gifted to the Oakland Museum, May 17, 2002 by Bernice M. Mayer.

Two baskets (2004.108.1-.2) gifted to the Oakland Museum, December 9, 2004 as part of the estate of Fred A Countryman.

Two baskets (2007.22.3 and .12) gifted to the Oakland Museum, February 8, 2007 as part of the estate of Donald V. Hemphill. Former OMCA curator Christiaan Kliger described these baskets as Yurok or possibly Hupa.

Three basket hats (2007.91.1, .2, .3) received by the Oakland Museum, February 9, 2000 as part of a bequest from the Ann Proctor Trust. Former OMCA curator Christiaan Kliger described these baskets as “Lower Klamath River, possibly Hupa.” Both the Yurok Tribe and the Resighini Rancheria attribute these as Yurok.

In 2007, random testing of OMCA's basket collection was conducted using pXRF technology. Eight baskets included in this request for repatriation were tested at that time with negative results for both mercury and arsenic.

Determinations

The Oakland Museum of California has determined that:

• The 332 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Resighini Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 29, 2024. If competing requests for repatriation are received, the Oakland Museum of California must determine the most appropriate requestor prior to repatriation. Requests for joint repatriation of the cultural items are considered a single request and not competing requests. The Oakland Museum of California is responsible for sending a copy of this notice to the Indian Tribes and Native Hawaiian organizations identified in this notice and to any other consulting parties.

Authority: Native American Graves Protection and Repatriation Act, 25 U.S.C. 3004 and the implementing regulations, 43 CFR 10.9.

Dated: October 25, 2024.
Melanie O'Brien,
Manager, National NAGPRA Program.

[FR Doc. 2024-25191 Filed 10-29-24; 8:45 am]

BILLING CODE 4312-52-P